DEPARTMENT OF THE INTERIOR

Fish and Wildlife Service

[FWS-R4-R-2011-N138; 40136-1265-0000-S3]

White River National Wildlife Refuge, AR; Draft Comprehensive Conservation Plan and Environmental Assessment

AGENCY: Fish and Wildlife Service, Interior.

ACTION: Notice of availability; request for comments.

SUMMARY: We, the Fish and Wildlife Service (Service), announce the availability of a draft comprehensive conservation plan and environmental assessment (Draft CCP/EA) for White River National Wildlife Refuge (NWR) in Desha, Monroe, Phillips, and Arkansas Counties, Arkansas, for public review and comment. In this Draft CCP/EA, we describe the alternative we propose to use to manage this refuge for the 15 years following approval of the final CCP.

DATES: To ensure consideration, we must receive your written comments by November 14, 2011.

ADDRESSES: You may obtain a copy of the Draft CCP/EA by contacting Mr. Dennis Sharp, via U.S. mail at White River NWR, P.O. Box 205, St. Charles, AR 72140, or via e-mail at dennis_sharp@fws.gov. Alternatively, you may download the document from our Internet Site at http://www.fws.gov/southeast/planning/under “Draft Documents.” Submit comments on the Draft CCP/EA to the above postal address or e-mail address.

FOR FURTHER INFORMATION CONTACT: Mr. Mike Dawson, at (601) 955-1518 (telephone).

SUPPLEMENTARY INFORMATION:

Introduction

With this notice, we continue the CCP process for White River NWR. We started the process through a Federal Register notice on January 21, 2009 (74 FR 3628). Please see that notice for more about the refuge and its purposes.

Background

The CCP Process

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including Our Proposed Alternative

We developed three alternatives (A, B, and C) for managing the refuge and chose Alternative C as the proposed alternative. A full description of each alternative is in the Draft CCP/EA. We summarize each alternative below.

Alternative A—Current Management (No Action)

Under Alternative A, current management direction would continue at present levels. We would continue to support existing migratory waterfowl numbers and habitat acreage in an attempt to meet or exceed the foraging habitat objectives of the Lower Mississippi Valley Joint Venture and the North American Waterfowl Management Plan. We would continue to provide functional waterfowl refuge/sanctuary areas throughout the refuge, comprising at least 60 percent of its area. We would continue to provide quality wood duck nesting and brood-rearing habitat in bottomland hardwoods, cypress swamps, and scrub/shrub habitats. If time permits, we would conduct banding to support objectives of the Mississippi Flyway Council.

We would provide incidental benefits for shorebirds, but with no active management on their behalf. Likewise, there would be no active habitat management for marsh birds, but we would continue to provide habitat for them in shallow-water areas and moist-soil units. There would be no active habitat management for wading birds, but we would continue to provide habitat for breeding and wintering colonial waterbirds in shallow-water areas and forested wetlands.

We would continue to provide both managed and unmanaged forest habitat, to provide a diversity of forest conditions that support forest-breeding birds designated as high priority in the Mississippi Alluvial Valley's Bird Conservation Region 26, through forest restoration on newly acquired parcels and silvicultural management of some existing forested tracts. We would continue to provide protection for threatened and endangered species through research, survey, recovery, conservation, and management programs.

There would be no specific management of white-tailed deer, but active management of forested habitats would continue, as would management of early succession open lands and croplands that benefit deer. Our aim would be to maintain a healthy deer herd consistent with long-term habitat capability. We would collect and analyze deer harvest data, conduct periodic herd health checks, and provide quality recreational opportunities for deer hunters.

There would be no specific management of turkeys; however, active habitat management would continue that incidentally results in enhanced habitat for turkeys and provides quality recreational opportunities. This alternative would maintain, restore, and enhance a variety of habitats suitable for use by black bears. There would be no active management for furbearers, other than controlling nuisance animals when necessary.

We would continue active habitat management to provide diverse habitats (e.g., early succession openland, agriculture, and bottomland forest) that supports healthy populations of resident small game, thus providing quality recreational activities for hunters of small game. We would continue active habitat management that provides a diversity of habitats and supports a healthy, diverse, and viable resident bat population. There would continue to be no active management for non-game mammals or their habitats, although non-game mammals and their habitats occur throughout the refuge. We would continue to manage and enhance habitat for a diverse assemblage of reptile and amphibian species. We would maintain aquatic habitat for a diverse assemblage of fish species, particularly those recognized as species of special concern by State and/or Federal agencies. We would also provide quality fishing opportunities on the refuge.

We would continue to provide a complex of habitat conditions through integrated open land rotation management, to meet the needs of migratory birds, including migratory waterfowl, shorebirds, wading birds, and secretive marsh birds. Through active forest management, we would aim to achieve desired forest conditions on 17 percent of the refuge, to protect, manage, and restore the values and functions of forestland to sustain the biological needs of native wildlife and migratory birds.

Hydrology would continue to be altered by both off-refuge (i.e., upstream within the White River watershed) and on-refuge manipulations that result in an unnatural hydrograph. We would continue to operate functioning water control structures and keep non-functioning water control structures inactive. We would continue limited efforts through the use of Best Management Practices recommended by the Arkansas Forestry Commission in refuge management and operations, to reduce levels of stream impairment from turbidity, siltation, and pollution.

We would continue to conduct incidental inventorying, monitoring, and researching, but without the guidance and priorities of an Inventorying and Monitoring Plan. Similarly, there would be no active, systematic efforts to monitor or mitigate global climate change.

We would continue to work with partners to minimize impacts of threats to natural and cultural resources. We would follow standard Service protocol and procedures according to Section 106 of the National Historic Preservation Act.

We would continue opportunistic control of nuisance and exotic terrestrial animal species, such as feral hogs, nutria, and beaver; exotic and invasive terrestrial and aquatic plant species; and nuisance and exotic aquatic animal species, such as Asian carp, northern snakeheads, zebra mussels, and Asian clams.

We would continue to provide a permit to the U.S. Army Corps of Engineers (COE), allowing the deposition of nonbeneficial dredge material at two sites in the lower White River. We would work cooperatively with the COE to develop a long-term dredge spoil disposal alternative that is compatible with refuge purposes. Grazing would continue to be allowed along the White River Drainage District's right-of-way over Service properties. Haying would be allowed after July 1 each year on the drainage district's right-of-way over Service properties. We would continue to acquire key parcels within the approved acquisition boundary. We would continue to promote communication, cooperation, and partnerships between other agencies, land managers, and private citizens to minimize impacts from external threats to the functions and values of the refuge's wetland ecosystems.

We would conduct maintenance on roads, trails, boat ramps, and other public use infrastructure. We would continue to provide existing hunting opportunities that allow for quality public recreation and that are compatible with the purposes for which the refuge was established. We would continue to provide existing fishing, wildlife observation, and environmental education and outreach programs. Existing interpretive facilities, materials, and programs would continue, including the summer campfire programs.

We would continue to provide and maintain approximately 90 miles of graveled roads for public access and 400 miles of dirt roads/trails for forest management and all-terrain vehicle use. We would continue to allow primitive camping associated with wildlife-dependent activities on about 44,000 acres and 24 maintained campgrounds. We would also continue to allow small boats to be left along the small isolated lakes year-round. Existing permitted houseboats would continue being gradually eliminated, according to the Houseboat Management Plan. We would also document non-permitted houseboats.

We would maintain the existing staff of 14 full-time employees. We would maintain existing facilities, infrastructure, and equipment necessary to perform habitat management, restoration, and improvement on the refuge. We would maintain essential infrastructure, such as roads, levees, and water control structures. Furthermore, we would maintain the volunteer program and continue to support the friends group and other cooperative partnerships.

Alternative B—Minimal Resource and Public Use Management

The thrust of Alternative B is reduced management of resources and public use. This alternative would still pursue the refuge goals, but it would approach them from the perspective of custodial stewardship, or minimal active management. The Service would be a good custodian of the landscape and the White River ecosystem without attempting to intervene extensively in existing ecosystem processes.

With regard to migratory bird populations, Alternative B would eliminate all active management and habitat manipulation, allowing open lands and forested habitats to function and progress through habitat succession. Concerning migratory bird sanctuary, however, Alternative B would be the same as Alternative A. Functional waterfowl refuge/sanctuary areas would continue to be provided, comprising at least 60 percent of the refuge.

We would eliminate wood duck banding activities and cease active habitat management for wood ducks. With respect to shorebirds, we would also eliminate active management of moist-soil units and agricultural fields, allowing natural succession to occur. Active management of shallow-water areas, impoundments, and forested wetlands on behalf of marsh birds, colonial nesting waterbirds, and wading birds would cease, and natural succession would occur on those habitats. We would eliminate active management of forest stands for the benefit of forest breeding birds and allow natural succession to proceed on all abandoned croplands, moist-soil units, and scrub/shrub habitats. We would eliminate active management of endangered and other listed species and operate the refuge without knowing the extent or number of these species occurring on the refuge.

Hunting of game animals, such as deer, wild turkey, and bear, would continue on the refuge, but Alternative B would halt active habitat management to provide enhanced habitat. All active forest and open land management and collection of biological data about white-tailed deer would cease, but we would continue to use deer hunting to regulate population levels in support of a healthy herd consistent with long-term habitat capability. This alternative would still aim to provide quality recreational opportunities for deer hunters. With regard to wild turkey, we would stop all active habitat management and allow forest succession to occur on all lands, which would initially increase nesting habitat. Eventually, however, nesting habitat would be lost due to forest succession. Stopping all active habitat management and allowing forest succession to occur uninterrupted would incidentally support black bears.

Without control of nuisance animals, furbearer populations would be allowed to fluctuate naturally. Small game and non-game mammals would benefit if all active habitat management stopped and forest succession was allowed to occur. Natural succession would form wooded and wetland habitats that would support sustainable populations of most bat species. Stopping all active habitat management and allowing forest succession would be the preferred approach to supporting a diverse assemblage of reptiles and amphibians. Additionally, riverine and floodplain aquatic habitat would function without intervention under this alternative.

We would phase out active refuge management and habitat manipulation of open lands, gradually allowing them to undergo natural succession, except for levees and rights-of-way, which must be kept open per interagency agreements. We would also eliminate active forest management, allowing natural succession and processes to achieve desired forest conditions on 5 percent of the refuge, to protect and restore the values and functions of the refuge's forestland. This would help sustain the biological needs of native wildlife and migratory birds.

We would allow aquatic habitats to function without management practices. Hydrology under Alternative B would be the same as under Alternative A. The hydrology of the White River and its tributaries, sloughs, and lakes would continue to be altered both by off-refuge and on-refuge manipulations that result in an unnatural hydrograph. Nuisance beaver control and associated habitat impacts would be eliminated, resulting in a continual lose of forested habitat. All active water management would be eliminated, and we would allow habitat succession to occur on areas with water control capabilities.

We would eliminate all active open land and forested habitat management on the refuge. This may reduce erosion from adjacent lands through an increase in the acreage of undisturbed forested riparian habitat. All inventorying and monitoring on the refuge would cease. Under Alternative B, our approach to climate change would be the same as under Alternative A—there would be no active, systematic efforts to monitor or mitigate global climate change.

We would continue to work with partners to minimize impacts to the refuge's natural and cultural resources. Alternative B would pursue this goal through a variety of means and measures. Cultural resources would be protected through minimal implementation of standard Service protocol and procedures according to Section 106 of the National Historic Preservation Act.

We would identify and track occurrences of invasive terrestrial and aquatic animals and plants, but would make no efforts to control them.

Treatment of dredge spoil sites would be the same as under Alternative A. Grazing and haying would also be dealt with the same as under Alternative A.

With regard to refuge land acquisition, we would continue to acquire key parcels within the approved acquisition boundary. We would also continue to promote communication, cooperation, and partnerships between other agencies, land managers, and private citizens, to minimize impacts from external threats to the refuge's wetland ecosystems.

With regard to visitor services and public use management, Alternative B is the same as Alternative A, except that it would discontinue maintenance of roads, trails, boat ramps, and other public use infrastructure that accommodates priority public uses. Public uses and visitation would still be allowed, but we would no longer provide support and maintain facilities. Hunting would be permitted and encouraged, but we would cease maintenance of the facilities and infrastructure that support hunting. Commercial duck guiding on the refuge would be eliminated. The other priority public uses—fishing, wildlife observation, wildlife photography, and environmental education and interpretation—would all be allowed under Alternative B, except that maintenance of facilities and infrastructure that support these activities would be discontinued. Existing access roads and trails would not be maintained. Small boats would no longer be allowed to remain overnight along the refuge's isolated lakes. We would also cease maintenance of 24 primitive campgrounds and eliminate camping. We would continue to gradually eliminate existing permitted houseboats according to the Houseboat Management Plan. We would also document non-permitted houseboats, the same as under Alternative A.

We would reduce the staff to eight by eliminating the following positions: one assistant refuge manager, two foresters, one forestry technician, and one equipment operator. The remaining eight employees should be sufficient to manage the refuge on a custodial basis.

We would maintain a minimal inventory of facilities, infrastructure, and equipment needed for basic resource management and only tasks required by law, regulation, or policy, which include human safety, endangered species management, and law enforcement, would be conducted. We would reduce involvement with volunteers to a seasonal basis as needed. A reduction in staff could diminish support for the friends group and other cooperative partnerships.

Alternative C—Enhanced Resource and Public Use Management (Proposed Alternative)

Alternative C, our proposed alternative, would continue to support migratory waterfowl populations, with a focus on providing wetland habitat to wintering ducks and breeding wood ducks. It would also maintain the waterfowl sanctuary and explore opportunities to improve the spatial distribution of the refuge's waterfowl sanctuaries to help meet its waterfowl objectives. We would increase wood duck nesting and brood-rearing habitat, through land acquisition and conduct banding activities, in an attempt to band 63 wood ducks annually. Doing this would support the objectives of the Mississippi Flyway Council. To improve banding efficiency, we would provide and maintain a limited number of strategically placed wood duck boxes in areas where banding is to occur.

Through managing the timing of lake draw-downs, we would provide fall migration habitat for shorebirds from July through October, to contribute to the objectives set forth in the U.S. Shorebird Conservation Plan and the Lower Mississippi Valley/West Gulf Coastal Plain Shorebird Management Plan. We would also provide high-quality habitat for breeding and migrating marsh birds, in conjunction with meeting waterfowl habitat requirements where possible, and monitor results of management actions. Alternative C would provide critical habitats for long-legged wading birds and protect all rookery sites from disturbance from March to August (i.e., their breeding season) to contribute to objectives set forth in the North American Waterbird Conservation Plan.

Forest breeding birds are also a priority of Alternative C. With the aid of additional biological and forestry specialists to assist with planning, implementing, and monitoring, we would improve, intensify, and expand forest management for the enhanced benefit of high-priority forest breeding birds.

With regard to conserving threatened and endangered species and species of concern, Alternative C would be the same as Alternative A—the refuge would continue to support their protection and enhancement. Additionally, this alternative would attempt to restore habitats for listed species.

White-tailed deer would be managed the same as under Alternative A, except that we would use harvest and health check data to adjust hunting seasons if and when necessary. Likewise with wild turkey management, Alternative C would be identical to Alternative A, except that we would monitor turkey population status with the aid of additional staff. Also with the aid of additional staff, we propose to intensify management programs to provide enhanced habitat conditions that would support a healthy and sustainable black bear population and monitor bear occurrence. Once again we would apply adaptive management, and results would be used to adjust future management decisions. Furbearer management would be the same as under Alternative A, except that additional opportunities would be identified to expand programs for controlling nuisance animals.

Small game management would also be identical to Alternative A in that we would continue active habitat management to provide diverse habitats, such as early succession openland, agriculture, and bottomland forest that support healthy populations of resident small game, and provide quality recreational activities. Bat management would also be the same as under Alternative A, except that with the aid of additional staff we could perform periodic bat surveys to document occurrence and habitat use.

Under Alternative C, resident non-game mammals and a diverse assemblage of reptiles and amphibians would benefit from enhanced habitat management; those animals and natural communities designated as Elements of Special Concern by the Arkansas Natural Heritage Commission would receive particular emphasis in management. Likewise, we would maintain and enhance aquatic habitat for a rich diversity of fishes, particularly those recognized as species of special concern by State and/or Federal agencies.

With regard to open lands under passive management (e.g., levees, fallow fields, and rights-of-way), Alternative C would maintain these to provide a complex of habitat types primarily suited to benefit migratory birds and resident wildlife. We would also explore opportunities to increase the efficiency of current open lands and maintain or increase the acreage of habitat to be included in integrated open land management. We would monitor vegetation and wildlife responses to treatment and we would implement adaptive management.

We would work with the White River Drainage District to eliminate grazing activities on the levee based on the compatibility considerations (i.e., providing habitat that negatively impacts neotropical bird species), and instead mow or hay outside of the March to August breeding dates. This would assure that woody encroachment on the levees is minimized. Optimal management would establish conditions in which grass and herbaceous growth are not inhibited or removed between March and August annually. To avoid disruption of the nesting season of neotropical migratory songbirds in the adjacent refuge forest and to prevent creating suitable brown-headed cowbird habitat during the nesting season, mowing/haying will not be allowed until August 15.

With respect to actively managed open lands, Alternative C would expand and intensify management to provide a complex of habitat types primarily suited to benefit migratory birds. We would explore opportunities to increase efficiency of current open lands and maintain or increase the acreage of habitat to be included in integrated open land management. In addition, we would monitor vegetation and wildlife responses to treatment and implement adaptive management.

Through active forest management, we would aim to achieve desired forest conditions on 40 percent of the refuge, to protect, manage, and restore the values and functions of the forestland in order to sustain the biological needs of native wildlife and migratory birds.

Alternative C would improve and restore the aquatic habitats of lakes, sloughs, and bayous. We would restore and/or mimic hydrologic patterns (i.e., the timing, frequency, duration, and extent of flooding) and the habitats associated with particular hydrologic characteristics on the refuge, and cooperate in interagency efforts to restore and/or mimic a more natural hydrograph on the White River. We would also endeavor to improve the functionality of water control structures and create more natural water regimes, while providing important resources for wetland-dependent wildlife.

We would establish and implement management actions to protect and improve water quality, while not interfering with activities associated with habitat management. We would prepare, maintain, and start to implement an inventorying and monitoring plan and use the results to implement adaptive management. Unlike alternatives A and B, Alternative C would address climate change by designing and beginning to implement long-term monitoring, with the potential to track and assess changes due to global climate change. As possible, we would coordinate these efforts with larger regional monitoring efforts.

Under Alternative C, we would develop and begin to implement a Cultural Resources Management Plan. Until such time as the plan is complete, we would follow standard Service protocol and procedures according to Section 106 of the National Historic Preservation Act.

With regard to invasive terrestrial animals, we would intensify and expand prevention and control programs, including development of a database to track occurrences and control measures. We would develop and implement a Nuisance Animal Management Plan, to detail objectives and methods for nuisance animal control. We would also develop a Rapid Response and Prevention Plan for invasive aquatic animals. Similarly, for invasive plant species, we would develop and implement an Invasive Plants Plan for coordinated control efforts when infestations are encountered, along with a database to systematically track invasive plant occurrences and treatments.

Concerning dredge disposal sites, we would complete the Partnering Agreement with the COE that seeks a long-term dredge spoil disposal alternative. We would also complete a compatibility determination for the proposed disposal alternative. Should the proposed alternative be found not compatible, the dredge spoil deposition on refuge sites would be eliminated as expeditiously as practicable.

Working with partners, we would acquire priority lands within or adjacent to the approved acquisition boundary from willing sellers that would enhance the conservation values of the refuge; over the long term, we would consider acquisition boundary expansion to ensure the protection of bottomland hardwood habitats and to enhance landscape conservation.

Alternative C would promote, manage, and improve appropriate and compatible public uses with the recruitment of additional visitor service staff, preparation of a Visitor Services Plan, and better access and improved facilities. We would develop a new Hunt Plan to improve hunting opportunities, while ensuring safe, compatible, and quality experiences. Efforts would be made to develop more consistent hunting seasons and regulations on the north and south units of the refuge. Public use impacts would be monitored and adjustments would be made, as needed, to protect resources.

Under Alternative C, we would modify the guide program to provide fair and equitable hunting opportunities that foster a safe, ethical hunting experience, reduce the commercial guide's ability to monopolize the most easily accessible quality hunting sites, and minimize conflicts between non-guided hunters and hunting guides. We would reduce the number of commercial duck guiding permits from 17 to 5, and eliminate the availability of 10 additional guiding permits during specified flood conditions.

We would develop a new Fishing Plan to improve fishing opportunities, while ensuring safe, compatible, and quality experiences. We would strive to improve and expand wildlife observation and photography opportunities and environmental education, outreach, and interpretive opportunities, while ensuring safe, compatible, and quality experiences. We would recruit additional visitor services staff to develop a series of standard environmental education programs for visiting school groups and training for teacher-led discovery field trips. For interpretation purposes, we would develop and install a display that explains the forest management program and desired forest conditions. We would develop forest demonstration plots and interpretive panels at wildlife drive pullouts.

We would maintain existing public access in a safe and environmentally appropriate manner, to support wildlife-dependent priority public uses. We would reduce the number of miles of tertiary all-terrain vehicle trails by 25 percent and would develop an Access Plan. In addition, we would utilize seasonal closures, as necessary, to minimize resource impacts and to ensure the quantity and quality of access.

We would reduce the camping program and encourage the use of nearby private campgrounds. The number of campgrounds would be reduced and some campgrounds would only be open to accommodate peak-use periods associated with quota deer hunts. Camping would be restricted to designated areas and the minimal area necessary to meet priority public use needs. We would promote the use of surrounding private campgrounds by refuge users and encourage the development of additional private campground sites.

We would continue to gradually eliminate existing permitted houseboats according to the Houseboat Management Plan and prohibit the attachment of non-permitted houseboats to refuge property. We would work with other State and Federal agencies to ensure all remaining houseboats are in compliance with marine sanitation regulations.

As budgetary resources become available, we would strategically add 14 staff positions that would improve the capacity and capability of the refuge to achieve its legislated purposes and accomplish management goals and objectives. Like Alternative A, Alternative C would maintain existing facilities, infrastructure, and equipment necessary to perform habitat management, restoration, and improvements on the refuge, in addition to maintaining essential infrastructure, such as roads, levees, and water control structures. In addition to this, Alternative C, with the aid of additional staff and equipment, would improve facilities and infrastructure that facilitate management programs for trust species and visitor services, and maintain or improve access for management purposes and visitor use. We would also expand the volunteer program and cooperate with the friends group and other cooperative partnerships.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: August 3, 2011.
Mark J. Musaus,
Acting Regional Director.

[FR Doc. 2011-26650 Filed 10-13-11; 8:45 am]

BILLING CODE 4310-55-P